DEPARTMENT OF JUSTICE

[OMB Number 1121-0094]

Agency Information Collection Activities; Proposed eCollection eComments Requested; Extension of Currently Approved Collection Survey: Death in Custody Reporting Program; Annual Survey of Jails; Survey of Jails in Indian Country

AGENCY: Bureau of Justice Statistics, Department of Justice.

ACTION: 30-Day notice.

SUMMARY: The Department of Justice (DOJ), Office of Justice Programs, Bureau of Justice Statistics, will be submitting the following information collection request to the Office of Management and Budget (OMB) for review and approval in accordance with the Paperwork Reduction Act of 1995. This proposed information collection was previously published in the Federal Register at 80 FR 53569 on September 4, 2015, allowing for a 60 day comment period.

DATES: Comments are encouraged and will be accepted for 30 days until December 21, 2015.

FOR FURTHER INFORMATION CONTACT: If you have additional comments especially on the estimated public burden or associated response time, suggestions, or need a copy of the proposed information collection instrument with instructions or additional information, please contact Margaret Noonan, Statistician, Bureau of Justice Statistics, 810 Seventh Street NW., Washington, DC 20531 (email: Margaret.Noonan@usdoj.gov; telephone: 202-353-2060). Written comments and/or suggestions can also be directed to the Office of Management and Budget, Office of Information and Regulatory Affairs, Attention Department of Justice Desk Officer, Washington, DC 20530 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

(1) Type of Information Collection: Extension of a Currently Approved Collection.

(2) The Title of the Form/Collection: Annual Jail Collection. The collection includes the Deaths in Custody Reporting Program (DCRP)—Local Jails, Annual Survey of Jails (ASJ), and the Survey of Jails in Indian Country (SJIC).

(3) The agency form number, if any, and the applicable component of the Department sponsoring the collection: This collection includes the following forms:

• CJ-9A/5: Annual Survey of Jails. This form goes to jail jurisdictions in the ASJ sample that are operated by the county or city.

• CJ-10A/5: Annual Survey of Jails. Multi-Jurisdiction or Private Facility. This form goes to confinement facilities in the ASJ sample that are administered by two or more governments (regional jails) and privately owned or operated confinement facilities.

• CJ-9A: Deaths in Custody, Annual Summary on Inmates under Jail Jurisdiction. This form goes to jail jurisdictions that are not included in the ASJ sample.

• CJ-10A: Deaths in Custody, Annual Summary on Inmates in Private and Multi-Jurisdiction Jails. This form goes to confinement facilities administered by two or more local governments (regional jails) and to privately owned or operated confinement facilities that are not included in the ASJ sample.

• CJ-9: Deaths in Custody, Death Report on Inmates under Jail Jurisdiction. This form goes to all jail jurisdictions that are operated by the county or city. Jails administers are requested to fill out this form if their facilities had one or more deaths in that calendar year.

• CJ-10: Deaths in Custody, Death Report on Inmates in Private and Multi-Jurisdiction Jail. This form goes to all confinement facilities administered by two or more local governments (regional jails) and privately owned or operated confinement facilities. Jails administrators are requested to fill out this form if their facilities had one or more deaths in that calendar year.

• CJ-5B: Survey of Jails in Indian Country. All jail administrators in Indian Country Indian country jails receive the CJ-5B form. Indian Country jails are owned or operated by tribal authorities or the Bureau of Indian Affairs (BIA).

The applicable component within the Department of Justice is the Bureau of Justice Statistics (Corrections Unit), in the Office of Justice Programs.

(4) Affected public who will be asked or required to respond, as well as a brief abstract: The affected public that will be asked to respond include approximately 3,080 county, city, and tribal jail authorities.

The Annual Survey of Jails (ASJ) and Survey of Jails in Indian Country (SJIC) provide the nationally-representative data on local jail populations and jails in Indian country. BJS, other federal agencies, and state, local, and tribal corrections authorities and administrators, as well as legislators, researchers, and jail planners use these data to track annual changes in the demographic characteristics of the jail population as well as changes in the jail population, jail capacity and crowding, the flow of inmates moving into and out of jails, and use of jail space by other correctional institutions. Providers of the data are administrators in approximately 941 county and city jails and 80 tribal jails.

The ASJ collects the following data at from local jails operated at the city or county level. Reporting units within the jail report data for their jail jurisdiction:

(a) The number of male and female inmate deaths during the previous calendar year (new to the 2015 surveys).

(b) The number of inmates confined in jail facilities at midyear (last weekday in the month of June).

(c) The number of inmates confined in jail facilities and the number of inmates under jail supervision but not confined (e.g., electronic monitoring, day reporting, etc.) at yearend (December 31).

(d) The numbers of following types of confined inmates—males—adult; females—adult; males—17 and under, females—17 and under; 17 and under held as adults; non-U.S. citizen; convicted; unconvicted; held for a felony; held for a misdemeanor; white, black, Hispanic, American Indian, Asian American, Native Hawaiian, and multiracial; and held for Federal authorities, State prison authorities, tribal government, and other local jail jurisdictions—at yearend.

(e) Whether the jail facilities have a weekend incarceration program and the number of inmates participating.

(f) The date and count for the greatest number of confined inmates during December.

(g) The number of new admissions into and final discharges from jail facilities in collection year by sex.

(h) The average daily population of jail facilities from January 1 to December 31 of collection year by sex.

(i) Jail rated capacity.

(j) The numbers of unconfined persons participating in various programs such as electronic monitoring, home detention, community service, day reporting, etc. at yearend.

(k) The numbers of correctional and other staff employed by sex at yearend.

The SJIC collects the following data for jails in Indian country at the jail level:

(a) The total number of confined inmates in jail facilities at midyear (last weekday in the month of June).

(b) The numbers of following types of confined inmates in jails—males—adult; females—adult; males—17 and under; females—17 and under, 17 and under held as adults, convicted, unconvicted, held for felony, held for misdemeanor, and held for specific offenses such as domestic violence, assault, burglary, larceny, drug violation, etc.—at midyear.

(c) The average daily population during the 30-day period in June.

(d) The date and count for the greatest number of confined inmates during the 30-day period in June.

(e) The number of new admissions into and final discharges during the month of June.

(f) The number of inmate deaths while confined; the number of deaths attributed to suicide; and the number of confined inmates that attempted suicide from July 1 of the previous year to June 30 of the current collection year.

(g) The total rated capacity of jail facilities at midyear.

(h) The number of correctional staff employed by the facility and their occupation (e.g., administration, jail operations, educational staff, etc.) at midyear.

Originally authorized by the Death in Custody Reporting Act (DICRA) of 2000, the Death in Custody Reporting Program (DCRP)-Local Jails is the only national database that can inform the issue of mortality in jails in depth. BJS uses this data to track and report on total and cause-specific deaths and mortality rates in jails. The DCRP-Local Jails has two components: Jail-level collection of retrospective yearend inmate counts and individual-level collection of information on deceased inmates during the current calendar year. Specifically, the following items are collected:

(a) The number of inmates confined in jail facilities on December 31 of the previous year by sex.

(b) The number of inmates admitted to jail facilities in the previous year by sex.

(c) The number of inmates confined in local jails on behalf of U.S. Immigration and Customs Enforcement, the U.S. Marshals Service or any other hold for another jurisdiction.

(d) The average daily population of all jail confinement facilities operated by the jurisdiction in the previous year by sex.

(e) The number of persons who died while under the supervision of the jurisdiction in the previous year by sex.

(f) The first, last name and middle initial, date of death, date of birth, sex, and race/ethnic origin for each inmate who died during the reporting year.

(g) Whether the deceased inmate was being held in the local jail or under the authority of the state department of correction; on the behalf of U.S. Immigration and Customs Enforcement; the U.S. Marshals Service, or other counties, jurisdictions or correctional authorities.

(h) The admission date and current offense(s) for each inmate who died during the reporting year.

(i) The legal status for each inmate who died during the reporting year.

(j) Whether the inmate ever stayed overnight in a mental health observation unit or outside mental health facility.

(k) The location and cause of death of each inmate death that took place during the reporting year.

(l) The time of day that the incident causing the inmate's death occurred and where the incident occurred (limited to accidents, suicides, and homicides only).

(m) Whether the cause of death was a preexisting medical condition or a condition that developed after admission to the facility and whether the inmate received treatment for the medical condition after admission and if so, the kind of treatment received (deaths due to accidental injury, intoxication, suicide, or homicide do not apply).

(n) Whether an autopsy/postmortem exam/review of medical records to determine the cause of death of the inmate was performed and the availability of those results.

(o) The survey ends with a box in which respondents can enter notes.

(p) Confirmation or correction of the agency and agency head's name, phone number, email address, and mailing address.

(q) Confirmation or correction of the agency's primary point of contact for data collection, title, phone number, email address, and mailing address;

(r) Confirmation or correction of the names of facilities within the jurisdiction.

(5) An estimate of the total number of respondents and the amount of time estimated for an average respondent to respond

The ASJ and DCRP-Local Jails previously had separate survey operations. In an effort to reduce burden on respondents and minimize costs associated with the ASJ and the DCRP, the ASJ will be fielded along with the DCRP beginning in reference year 2015. Another major change in the 2015 DCRP-ASJ is the simplification of questionnaire forms. The current ASJ sample includes approximately 335 jail jurisdictions (370 reporting units, or about one-third of ASJ respondents), which are selected with certainty (probability of 1). From 2010 to 2014, these “certainty jails” received a different questionnaire with additional questions on staffing, physical assaults on staff, and the numbers of rule violations by inmates in various categories, while the non-certainty jails received a shorter questionnaire without those items. The previously estimated time to complete the longer form was 2 hours, while the estimated time to complete the shorter form remains 1.25 hours. The total burden hours previously associated with the ASJ was 1,454 hours. Starting in reference year 2015, all ASJ respondents will receive the shorter questionnaire form, regardless of certainty status. This change will result in a total burden hour estimate of 1,176 hours, or a reduction of about 278 burden hours on respondents. The estimated burden hour for each form in the annual jail collection is listed below:

(a) ASJ (CJ-9A/5 and CJ-10A/5)—There will be 941 respondents to ASJ for collection year 2015. It takes current ASJ respondents an average of 75 minutes to supply the information, so the burden hours are 1,176.

(b) DCRP-Local Jails annual summary forms (CJ-9A and CJ-10A)—BJS estimates that 2,059 jail respondents will complete these forms, with an average response time of 15 minutes. The burden hours for these forms are 515.

(c) SJIC (CJ-5B)—Eighty respondents will be asked to respond to SJIC for collection year 2016. BJS estimates that it takes an average of 75 minutes to supply the information for a total burden of 100 hours.

(d) Local jails/death reports (forms CJ-9 and CJ-10)—Analysis of data from data years 2000 through 2013 shows that annually approximately 80% of jails nationwide have no death in a given calendar year and do not need to complete a death report form. Approximately 600 jails will complete reports for 950 inmate deaths. Each report takes about 30 minutes, for a total of 450 hours. Unlike the CJ-9A/5, CJ-10A/5, CJ9A, and CJ10A forms, the CJ-9 and CJ-10 forms are not retrospectively. As a result, the reference year is the same as the calendar year.

(e) BJS collection agent makes verification and data quality follow-up contacts to jail respondents to ensure data quality. With estimated 872 respondents and 5 minute per call, data verification induces a burden of 73 hours.

Reporting mode | Purpose of contact | Number of data providers | Number of responses | Average reporting time (min) | Total burden hours
Online and mail | ASJ-DCRP | 938 | 938 | 75 | 1,173
Fax and mail | SJIC | 80 | 80 | 75 | 100
Online and mail | DCRP annual summary | 2062 | 2062 | 15 | 516
Online and mail | DCRP death records | 600 | 900 | 30 | 450
Telephone | ASJ-DCRP verification call | 3,000 | 3,000 | 8 | 400
Online and telephone | Data quality follow-up | 3,000 | 872 | 5 | 73
Total |  |  |  |  | 2,711

(6) An estimate of the total public burden (in hours) associated with the collection: The estimated total burden hours associated with this collection for reference years is 2,711.

If additional information is required contact: Jerri Murray, Department Clearance Officer, United States Department of Justice, Justice Management Division, Policy and Planning Staff, Two Constitution Square, 145 N Street NE., 3E.405B, Washington, DC 20530.

Dated: November 16, 2015.
Jerri Murray,
Department Clearance Officer for PRA, U.S. Department of Justice.

[FR Doc. 2015-29590 Filed 11-19-15; 8:45 am]

BILLING CODE 4410-18-P